DEPARTMENT OF COMMERCE

International Trade Administration

[Docket No. 080609747-8749-01]

Market Development Cooperator Program (MDCP)

AGENCY: International Trade Administration (ITA), Department of Commerce.

ACTION: Notice and request for applications.

SUMMARY: ITA is soliciting projects to strengthen U.S. competitiveness to be conducted by eligible entities for periods of up to three years. Project award periods normally begin between October 1, 2008 and January 1, 2009, but may begin as late as April 1, 2009. MDCP awards help to underwrite the start-up costs of new competitiveness-strengthening ventures that industry groups are often reluctant to undertake without federal support. MDCP aims to develop, maintain and expand foreign markets for non-agricultural goods and services produced in the United States.

DATES: Proposals must be received by ITA no later than 5 p.m. EDT, Thursday, July 31, 2008. A public meeting to discuss the competition will be held on Tuesday, June 24, 2008, at 2 p.m.

ADDRESSES: Proposals must be submitted to ITA, U.S. Department of Commerce, HCHB Rm. 3215; Washington, DC 20230, or via e-mail to Brad.Hess@mail.doc.gov. The full funding opportunity announcement and the application kit for this request for applications are available at http://www.trade.gov/mdcp, or by contacting Brad Hess at 202-482-2969. The public meeting will be held at the U.S. Department of Commerce, HCHB, 14th & Constitution, NW., Washington, DC in Room B 841-B.

FOR FURTHER INFORMATION CONTACT: Interested parties who are unable to access information via Internet or who have questions may contact Mr. Brad Hess by mail (see ADDRESSES), by phone at 202-482-2969, by fax at 202-482-4462, or via Internet at Brad.Hess@mail.doc.gov.

SUPPLEMENTARY INFORMATION: Electronic Access: The full funding opportunity announcement for MDCP is available at http://www.trade.gov/mdcp.

Funding Availability: Approximately $600,000 will be available through this announcement for fiscal year 2008. No award will exceed $250,000. ITA anticipates making a minimum of two awards. Additional awards might be made depending on the amounts requested and the availability of funds.

Statutory Authority: 15 U.S.C. 4723.

CFDA: 11.112, Market Development Cooperator Program.

Eligibility: Trade associations, state departments of trade and their regional associations, and non-profit industry organizations, including organizations such as World Trade Centers, centers for international trade development and small business development centers are eligible to apply for an MDCP award. In cases where no entity described above represents the industry, private industry firms or groups of firms may be eligible to apply for an MDCP award. Such private industry firms or groups of firms must provide in their applications, documentation demonstrating that no entity in the first three categories listed below represents their industry.

Cost Sharing Requirements: Applicants must contribute two dollars for every federal dollar received. At least 50% of the applicant's cost share must be cash. The remaining percentage of the applicant's cost share may be cash or in kind.

Intergovernmental Review: Applications under this program are not subject to Executive Order 12372, “Intergovernmental Review of Federal Programs.”

Limitation of Liability: In no event will the Department of Commerce or ITA be responsible for proposal preparation costs if this program fails to receive funding or is cancelled because of other agency priorities. Publication of this announcement does not obligate the Department of Commerce or ITA to award funds for any specific project or to obligate any available funds.

Evaluation and Selection Procedures: After receiving the applications, ITA will screen each one to determine the applicant's eligibility to receive an award. After receiving all applications, a selection panel composed of at least three ITA managers will review the applications using the evaluation criteria below, score them, and forward a ranked funding recommendation to the Assistant Secretary for Manufacturing and Services. The evaluation criteria scores assigned by the panel determine which applications are recommended for funding. The Assistant Secretary makes the final selection of award winners, justifying any deviation from the selection panel's ranked recommendation by application of the selection factors listed below.

Evaluation Criteria: The selection panel reviews each eligible application based on five evaluation criteria. The evaluation criteria are listed below.

(1) Potential to Strengthen Competitiveness (20%). This is the likelihood that a project will result in export initiatives by U.S. firms, particularly small- and medium-sized enterprises.

(2) Performance Measures (20%). Applicants must provide quantifiable estimates of export and market share increases, explain how they are derived, and detail the methods they will use to gather and report performance information.

(3) Partnership and Priorities (20%). This criterion indicates the degree to which the project initiates or enhances partnership with ITA and the degree to which the proposal furthers or is compatible with ITA's priorities.

(4) Creativity and Capacity (20%). Applicants demonstrate creativity, innovation, and realism in the project work plan as well as their institutional capacity to carry out the work plan.

(5) Budget and Sustainability (20%). This criterion indicates the reasonableness and effectiveness of the itemized budget for project activities, the amount of the cash match that is readily available, and the probability that the project can be continued on a self-sustained basis after the completion of the award.

The five criteria together constitute the application score. At 20 points per criterion, the total possible score is 100.

Selection Factors: The Assistant Secretary may deviate from the selection panel's ranked recommendation only based on the following factors: (1) The selection panel's written assessments, (2) Degree to which applications satisfy ITA priorities, (3) Geographic distribution of the proposed awards, (4) Diversity of industry sectors and overseas markets covered by the proposed awards, (5) Diversity of project activities represented by the proposed awards, (6) Avoidance of redundancy and conflicts with the initiatives of other federal agencies, and (7) Availability of funds.

The ITA priorities referred to under Evaluation Criteria (3) and Selection Factor (2) are listed below. ITA is interested in receiving proposals to promote U.S. exports that include, but are not limited to, projects that: (1) Improve the competitiveness of U.S. manufacturing and service industries by addressing impediments to innovation and reducing the cost of doing business in foreign countries; (2) Increase competitiveness of U.S. industries in large markets like China, India, and Brazil by addressing non-tariff barriers, especially those related to standards and intellectual property rights; (3) Help U.S. industry to capitalize on effective global supply chain management strategies; (4) Advance market-based approaches to energy, clean development, and commercialization of nuclear and alternative energy technologies; (5) Facilitate ease of travel to the United States and promote U.S. higher education and training opportunities to non-U.S. entities; (6) Capitalize on trade opportunities resulting from trade agreements; (7) Increase overall export awareness and awareness of ITA programs and services among U.S. companies, by making small- and medium-size enterprises export-ready or by facilitating deal-making; and (8) Support the Administration's broader foreign policy objectives through competitiveness-related initiatives.

The Department of Commerce Pre-Award Notification Requirements for Grants and Cooperative Agreements

The Department of Commerce Pre-Award Notification Requirements for Grants and Cooperative Agreements contained in the Federal Register notice of February 11, 2008 (73 FR 7697) are applicable to this solicitation.

Paperwork Reduction Act

This document contains collection-of-information requirements subject to the Paperwork Reduction Act (PRA). The use of Standard Forms 424 and 424A, 424B, SF-LLL, and CD-346 has been approved by OMB under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comments are not required by the Administrative Procedure Act for rules concerning public property, grants, benefits, and contracts (5 U.S.C. section 553(a)(2)). Because notice and opportunity for comment are not required pursuant to 5 U.S.C. 553 or any other law, the analytical requirements of the Regulatory Flexibility Act (5 U.S.C. section 601 et seq.) are inapplicable. Therefore, a regulatory flexibility analysis is not required and has not been prepared.

Dated: June 11, 2008.
Robert W. Pearson,
Director, Office of Planning, Coordination and Management, Manufacturing and Services, International Trade Administration, Department of Commerce.

[FR Doc. E8-13599 Filed 6-16-08; 8:45 am]

BILLING CODE 3510-DR-P